DEPARTMENT OF COMMERCE

National Institute of Standards and Technology

Prospective Grant of Exclusive Patent License

AGENCY: National Institute of Standards and Technology, Department of Commerce.

ACTION: Notice; prospective grant of exclusive patent license.

SUMMARY: The National Institute of Standards and Technology (“NIST”), U.S. Department of Commerce, is contemplating the grant of an exclusive license in the United States of America, its territories, possessions and commonwealths, to NIST's interest in the invention embodied in U.S. Patent Application No. 15/596,243, titled “Linear Absorption Spectrometer to Optically Determine an Absolute Mole Fraction of Radiocarbon in a Sample” (NIST Docket 17-011) to Planetary Emissions Management, Inc. The grant of the license would be for determination of carbon-14 isotope concentration in samples in all fields.

DATES: The prospective exclusive license may be granted unless NIST receives written evidence and argument which establish that the grant of the license would not be consistent with the requirements of 35 U.S.C. 209 and 37 CFR 404.7 by August 9, 2017.

ADDRESSES: Information related to this license may be submitted to NIST, Technology Partnerships Office, 100 Bureau Drive, Stop 2200, Gaithersburg, MD 20899, or emailed to donald.archer@nist.gov.

FOR FURTHER INFORMATION CONTACT: Donald G. Archer, National Institute of Standards and Technology, Technology Partnerships Office, 100 Bureau Drive, Stop 2200, Gaithersburg, MD 20899, (301) 975-2522, donald.archer@nist.gov.

SUPPLEMENTARY INFORMATION: This is a notice in accordance with 35 U.S.C. 209(e) and 37 CFR 404.7(a)(1)(i) that NIST is contemplating the grant of an exclusive license in the United States of America, its territories, possessions and commonwealths, to NIST's interest in the invention embodied in U.S. Patent Application No. 15/596,243, titled “Linear Absorption Spectrometer to Optically Determine an Absolute Mole Fraction of Radiocarbon in a Sample” (NIST Docket 17-011) to Planetary Emissions Management, Inc. The grant of the license would be for determination of carbon-14 isotope concentration in samples in all fields.

The prospective exclusive license will be royalty bearing and will comply with the terms and conditions of 35 U.S.C. 209 and 37 CFR 404.7. The prospective exclusive license may be granted unless, within fifteen (15) days from the date of this published Notice, NIST receives written evidence and argument which establish that the grant of the license would not be consistent with the requirements of 35 U.S.C. 209 and 37 CFR 404.7. The Patent Application was filed on May 16, 2017 and describes systems and methods for determining a quantity of carbon-14 in a sample.

Phillip Singerman,
Associate Director for Innovations and Industry Services.

[FR Doc. 2017-15491 Filed 7-24-17; 8:45 am]

BILLING CODE 3510-13-P